DEPARTMENT OF HEALTH AND HUMAN SERVICES

Centers for Disease Control and Prevention

[60Day-21-21BG; Docket No. CDC-2020-0118]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled the Prevention Research Centers (PRC) National Program Evaluation Reporting System (PERS). The purposes of the information collection system are to monitor progress on PRC program inputs, activities, outputs, and outcomes; support program management, evaluation, and improvement; facilitate internal and external reporting; and demonstrate accountability for Congressional funding. CDC has received and incorporated feedback from PRCs on the current version of PERS.

DATES: CDC must receive written comments on or before February 16, 2021.

ADDRESSES: You may submit comments, identified by Docket No. CDC-2020-0118 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Prevention Research Centers National Program Evaluation Reporting System (PERS)—NEW—National Center for Chronic Disease Prevention and Health Promotion (NCCDPHP), Centers for Disease Control and Prevention (CDC).

Background and Brief Description

In 1984, Congress passed Public Law 98-551 directing the Department of Health and Human Services (DHHS) to establish Centers for Research and Development of Health Promotion and

Disease Prevention. Beginning in 1986, the CDC received funding to lead the Prevention Research Centers (PRC) Program. Each PRC receives funding from the CDC to establish its core infrastructure and functions and conduct a core research project. Core research projects reflect each PRC's area of expertise and community needs. PRC core research projects align with the health disparities and goals outlined in Healthy People 2020 and Healthy People 2030. PRCs also have the opportunity to apply for additional competitive CDC funding to complete special interest projects (SIPs) to focus on a topic of interest or a gap in scientific evidence.

In 2018, the CDC published program announcement DP19-001 for the current PRC Program funding cycle (September 30, 2019—September 29, 2024). Twenty-six PRCs were selected through a competitive, external, peer-review process. The program is now in its second year of the current five-year funding cycle. Each PRC is housed within an accredited school of public health or an accredited school of medicine or osteopathy with a preventive medicine residency program. The PRCs conduct outcomes-oriented, applied prevention research, on priority public health topics using a multi-disciplinary and community-engaged approach. Partners include, but are not limited to, state, local, and tribal health departments, departments of education, schools and school districts, community-based organizations, healthcare providers, and health organizations. Partners collaborate with the PRCs to assess community needs; identify research priorities; set research agendas; conduct research projects and related activities such as training and technical assistance; translate research findings; and disseminate research results to public health practitioners, other researchers, and the general public.

In 2020, CDC convened a work group consisting of representatives from 11 PRCs to review proposed data fields in PERS and provide feedback to CDC. Their feedback was used to refine the data fields and ensure feasibility of the data collection and reporting by PRCs. These data will be used for program monitoring and evaluation purposes.

CDC's proposed information collection plan is as follows: CDC will use the information reported by PRCs through PERS to identify training and technical assistance needs, respond to requests for information from Congress and other sources, monitor grantees' compliance with cooperative agreement requirements, evaluate progress made in achieving goals and objectives, and inform program improvement efforts. In addition, these monitoring data will support CDC's ability to describe the impact and effectiveness of the PRC Program.

The CDC currently funds 26 PRCs and each center will annually report the required information to the CDC through PERS during years 3-5 of the cooperative agreement. The average, estimated annualized burden per respondent is 25 hours. The total, estimated, annualized burden for all respondents is 650 hours. The proposed web-based data collection system will allow data entry during the entire year, which will enable respondents to distribute burden throughout each funding year. Response burden is estimated to decrease significantly in years four and five, because cumulative reporting means some sections will require little to no editing through the funding cycle. The average estimated annualized burden for year three is expected to be 32 hours whereas the average estimated annualized burden for years four and five is expected to be 21 hours.

OMB approval is requested for three years, which will cover the last three years in the current funding cycle. As stated in the program announcement, PRC Program recipients are required to report data in PERS. There are no costs to respondents other than their time.

Estimated Annualized Burden Hours
Type of respondents | Form name | Number of respondents | Number of responses per respondent | Average burden per response (in hours) | Total burden (in hours)
PRCs | PERS | 26 | 1 | 25 | 650

Jeffrey M. Zirger,
Lead, Information Collection Review Office, Office of Scientific Integrity, Office of Science, Centers for Disease Control and Prevention.

[FR Doc. 2020-27819 Filed 12-17-20; 8:45 am]

BILLING CODE 4163-18-P